DEPARTMENT OF DEFENSE

Office of the Secretary

Defense Business Board; Notice of Federal Advisory Committee Meeting

AGENCY: Office of the Chief Management Officer, Department of Defense.

ACTION: Notice of Federal Advisory Committee meeting.

SUMMARY: The Department of Defense (DoD) is publishing this notice to announce that the following Federal Advisory Committee meeting of the Defense Business Board (“the Board”) will take place.

DATES: Closed to the public Wednesday, August 7, 2019 from 7:55 a.m. to 3 p.m.

ADDRESSES: The closed meeting will be in Room 3E869 in the Pentagon, Washington, DC.

FOR FURTHER INFORMATION CONTACT: Roma Laster, (703) 695-7563 (Voice), (703) 614-4365 (Facsimile), roma.k.laster.civ@mail.mil (Email). Mailing address is Defense Business Board, 1155 Defense Pentagon, Room 5B1088A, Washington, DC 20301-1155. Website: http://dbb.defense.gov/. The most up-to-date changes to the meeting agenda can be found on the website.

SUPPLEMENTARY INFORMATION: Due to circumstances beyond the control of the Department of Defense (DoD) and the Designated Federal Officer, the Defense Business Board was unable to provide public notification required by 41 CFR 102-3.150(a) concerning the August 7, 2019 meeting of the Defense Business Board. Accordingly, the Advisory Committee Management Officer for the Department of Defense, pursuant to 41 CFR 102-3.150(b), waives the 15-calendar day notification requirement.

This meeting is being held under the provisions of the Federal Advisory Committee Act (FACA) (5 U.S.C., Appendix), the Government in the Sunshine Act (5 U.S.C. 552b), and 41 CFR 102-3.140 and 102-3.150.

Purpose of the Meeting: To obtain, review, and evaluate information related to the Board's mission in advising the Secretary of Defense on overall DoD management and governance on (a) issues central to strategic DoD planning; (b) policy implications of U.S. force structure and force modernization and on DoD's ability to execute U.S. defense strategy; (c) U.S. regional defense policies; and (d) other research and analysis of topics raised by the Secretary of Defense, Deputy Secretary of Defense, or Chief Management Officer (CMO) to allow the Board to provide informed, independent advice reflecting an outside private sector perspective of proven and effective best practices that can be applied to the DoD.

Agenda: The meeting will begin on August 7, 2019 at 7:55 a.m. with opening remarks by Ms. Roma Laster, the Designated Federal Officer, and Mr. Atul Vashistha, Interim Board Chairman. The day's presentations will begin with a series of panel discussions featuring DoD officials and private sector experts that will inform the Board's advice and recommendations to be provided on the CMO's ongoing reform efforts. Panels scheduled are:

—Human Capital and Talent Management Reform Panel with senior executives from Goldman Sachs, Activision, Ernst & Young, and Yale School of Management along with representatives from the Office of the Under Secretary of Defense for Acquisitions and Sustainment, Office of the Under Secretary of Defense for Personnel and Readiness, and the Office of the Deputy Assistant Secretary of Defense for Civilian Personnel Policy.

—Data Management Strategy Reform Panel with a senior executive from Activision along with representatives from the Office of the Under Secretary of Defense (Comptroller), DoD's Office of the Chief Information Officer, DoD's Office of the Chief Data Officer, and the Office of CMO Business Systems.

—Shared Services Reform Panel with senior executives from PepsiCo and United Parcel Service along with representatives from the Defense Logistics Agency, Defense Counterintelligence and Security Agency, and Washington Headquarters Service. Panel participants will provide information on current issues and challenges, and engage in discussions involving commercial or financial information that is privileged or confidential.

Mr. James Baker, Director, Office of Net Assessment (ONA) and Mr. David Ochmanek will provide a classified briefing on current and future strategic challenges to DoD. The meeting will adjourn at 3:00 p.m.

Meeting Accessibility: In accordance with section 10(d) of the FACA and 41 CFR 102-3.155, the DoD has determined that the Board's meeting will be closed to the public. Specifically, the CMO, after consultation with the DoD Office of General Counsel, has determined in writing that the meeting will be closed as it will consider commercial or financial information obtained from a person that is privileged or confidential covered by 5 U.S.C. 552b(4), as well as classified information covered by 5 U.S.C. 552b(c)(1). The 5 U.S.C. 552b(4) determination is based on the consideration that it is expected panel discussions will involve the sharing of commercial or financial information that is privileged or confidential by the private sector participants. The 5 U.S.C. 552b(c)(1) determination is based on the consideration that the ONA briefing is classified and it is expected that discussions throughout the briefing will involve classified matters of national security concern. Such privileged and proprietary information and classified material are so intertwined with the unclassified material that the sessions cannot reasonably be segregated into separate discussions without defeating the effectiveness and meaning of the overall meeting. To permit the meeting to be open to the public would preclude any substantive discussion of such matters and would serve to greatly diminish the ultimate utility of the Board's findings and recommendations to the Secretary of Defense, the Deputy Secretary of Defense, and to the CMO.

Written Statements: Written comments may be submitted to the Designated Federal Officer via email to mailbox address: osd.pentagon.odam.mbx.defense-business-board@mail.mil in either Adobe Acrobat or Microsoft Word format. Please note that because the Board operates under the provisions of the FACA, all submitted comments will be treated as public documents and will be made available for public inspection, including, but not limited to, being posted on the Board's website.

Dated: August 2, 2019.
Aaron T. Siegel,
Alternate OSD Federal Register Liaison Officer, Department of Defense.

[FR Doc. 2019-16875 Filed 8-6-19; 8:45 am]

BILLING CODE 5001-06-P